SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: January 1-31, 2019.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and § 806.22 (f) for the time period specified above:

Approvals by Rule Issued Under 18 CFR 806.22(f)

1. Chief Oil & Gas, LLC; Pad ID: HOFFMAN UNIT PAD, ABR-201901002; Overton Township, Bradford County, Pa.; Consumptive Use of Up to 2.5000 mgd; Approval Date: January 7, 2019.

2. Cabot Oil & Gas Corporation; Pad ID: SquierR P1, ABR-201401004.R1; Brooklyn Township, Susquehanna County, Pa.; Consumptive Use of Up to 5.0000 mgd; Approval Date: January 24, 2019.

3. Pin Oak Energy Partners LLC; Pad ID: Wolfinger Pad A (Beechwood), ABR-201901001; Shippen Township, Cameron County and St. Marys City, Elk County, Pa.; Consumptive Use of Up to 4.0000 mgd; Approval Date: January 28, 2019.

4. Repsol Oil & Gas USA, LLC; Pad ID: COOLEY (05 266) D, ABR-201901003; Pike Township, Bradford County, Pa.; Consumptive Use of Up to 6.0000 mgd; Approval Date: January 28, 2019.

5. SWN Production Company, LLC; Pad ID: NR-15-HUGHES-PAD; ABR-201401007.R1; Great Bend Township, Susquehanna County, Pa.; Consumptive Use of Up to 4.9990 mgd; Approval Date: January 29, 2019.

6. SWN Production Company, LLC; Pad ID: WY 04 DIMMIG, ABR-201401009.R1; Forkston Township, Wyoming County, Pa.; Consumptive Use of Up to 4.9990 mgd; Approval Date: January 29, 2019.

Authority: Pub. L. 91-575, 84 Stat. 1509 et seq., 18 CFR parts 806, 807, and 808.

Dated: February 8, 2019.
Jason E. Oyler,
Acting Secretary to the Commission.

[FR Doc. 2019-02222 Filed 2-12-19; 8:45 am]

BILLING CODE 7040-01-P